FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 012187-002.

Agreement Name: Siem Car Carriers AS/Hoegh Autoliners AS Space Charter Agreement.

Parties: Siem Car Carriers AS and Hoegh Autoliners AS.

Filing Party: Ashley Craig; Venable LLP.

Synopsis: The amendment updates Article 5.3 of the Agreement to remove joint procurement and joint negotiation authority.

Proposed Effective Date: 6/30/2021.

Location: https://www2.fmc.gov/FMC.Agreements.Web/Public/AgreementHistory/344.

Agreement No.: 012161-004.

Agreement Name: Siem Car Carriers AS/Hyundai Glovis Co., Ltd. Space Charter Agreement.

Parties: Siem Car Carriers AS and Hyundai Glovis Co., Ltd.

Filing Party: Ashley Craig; Venable LLP.

Synopsis: The amendment updates Article 5.3 of the Agreement to remove joint procurement and joint negotiation authority.

Proposed Effective Date: 6/30/2021.

Location: https://www2.fmc.gov/FMC.Agreements.Web/Public/AgreementHistory/317.

Agreement No.: 012390-001.

Agreement Name: Siem Car Carriers AS/Liberty Global Logistics LLC Space Charter Agreement.

Parties: Siem Car Carriers AS and Liberty Global Logistics LLC.

Filing Party: Ashley Craig; Venable LLP.

Synopsis: The amendment updates Article 5.3 of the Agreement to remove joint procurement and joint negotiation authority.

Proposed Effective Date: 6/30/2021.

Location: https://www2.fmc.gov/FMC.Agreements.Web/Public/AgreementHistory/1006.

Agreement No.: 201363.

Agreement Name: Höegh Autoliners/National Shipping Company of Saudi Arabia (Bahri) Space Charter Agreement.

Parties: Hoegh Autoliners AS and The National Shipping Company of Saudi Arabia d.b.a. Bahri AS.

Filing Party: Wayne Rohde; Cozen O'Connor.

Synopsis: The Agreement authorizes the parties to charter space to/from one another in all U.S. trades worldwide.

Proposed Effective Date: 8/15/2021.

Location: https://www2.fmc.gov/FMC.Agreements.Web/Public/AgreementHistory/47520.

Agreement No.: 201348-001.

Agreement Name: APL/Swire Guam, Saipan—S. Korea, Japan Slot Charter Agreement.

Parties: American President Lines, LLC and The China Navigation Co. Pte. Ltd. d/b/a Swire Shipping.

Filing Party: Patricia O'Neill; American President Lines, LLC.

Synopsis: The Amendment revises Article 5.1 to add Hakata, Japan as a port call under the Agreement.

Proposed Effective Date: 7/2/2021.

Location: https://www2.fmc.gov/FMC.Agreements.Web/Public/AgreementHistory/34502.

Agreement No.: 012426-006.

Agreement Name: The OCEAN Alliance Agreement.

Parties: COSCO SHIPPING Lines Co., Ltd.; CMA CGM S.A. and APL Co. Pte. Ltd. (acting as a single party); Evergreen Marine Corporation (Taiwan) Ltd.; and Orient Overseas Container Line Limited.

Filing Party: Robert Magovern; Cozen O'Connor.

Synopsis: The Amendment revises Article 2 to add Evergreen Marine (Asia) Pte. Ltd. as a sub-party to the Agreement.

Proposed Effective Date: 8/20/2021.

Location: https://www2.fmc.gov/FMC.Agreements.Web/Public/AgreementHistory/1214.

Agreement No.: 201351-001.

Agreement Name: Foundation Carrier Agreement.

Parties: Maersk A/S; CMA CGM S.A. MSC Mediterranean Shipping Company S.A.; Hapag-Lloyd AG; and Ocean Network Express Pte Ltd.

Filing Party: Wayne Rohde; Cozen O'Connor.

Synopsis: The amendment adds Hapag-Lloyd Aktiengesellschaft and Ocean Network Express Pte Ltd. as parties to the Agreement, and makes corresponding adjustments in Articles 5.1(b), 5.3(c), and 6.4 of the Agreement.

Proposed Effective Date: 8/21/2021.

Location: https://www2.fmc.gov/FMC.Agreements.Web/Public/AgreementHistory/36502.

Agreement No.: 201364.

Agreement Name: Agreement Between the City of Los Angeles, the City of Long Beach, Portcheck, LLC, and Marine Terminal Operators.

Parties: Portcheck, LLC; The City of Long Beach Harbor Department; The City of Long Beach Harbor Department; APM Terminals Pacific LLC; Fenix Marine Services, Ltd.; Everport Terminal Services, Inc.; International Transportation Service, LLC; LBCT LLC; Total Terminals International, LLC; West Basin Container Terminal LLC; Pacific Maritime Services, LLC; SSAT (Pier A), LLC; Yusen Terminals LLC; Trapac LLC, and SSA Terminals, LLC.

Filing Party: Wayne Rohde; Cozen O'Connor.

Synopsis: The Agreement sets forth the terms and conditions under which PortCheck LLC and the marine terminal operators will provide certain services to the ports as provided for in tariffs published by the ports. These services relate to the collection of a clean truck fee in accordance with provisions to be published in the ports' respective tariffs.

Proposed Effective Date: 8/20/2021.

Location: https://www2.fmc.gov/FMC.Agreements.Web/Public/AgreementHistory/47525.

Agreement No.: 012214-001.

Agreement Name: Glovis/”K” Line Space Charter Agreement.

Parties: Kawasaki Kisen Kaisha, Ltd. and Hyundai Glovis Co., Ltd.

Filing Party: John Meade, “K” Line America, Inc.

Synopsis: The amendment eliminates the parties' authority to jointly negotiate for covered services under the Agreement and updates the address for Hyundai Glovis.

Proposed Effective Date: 7/1/2021.

Location: https://www2.fmc.gov/FMC.Agreements.Web/Public/AgreementHistory/265.

Agreement No.: 201365-002.

Agreement Name: Volkswagen Konzernlogistik GmbH & Co. OHG/NYK Line Space Charter Agreement.

Parties: Volkswagen Konzernlogistik GmbH & Co. OHG and Nippon Yusen Kaisha.

Filing Party: Kristen Chung; NYK Group Americas Inc.

Synopsis: The amendment removes all authority to jointly negotiate or procure terminal services in the United States.

Proposed Effective Date: 7/2/2021.

Location: https://www2.fmc.gov/FMC.Agreements.Web/Public/AgreementHistory/60.

Agreement No.: 012386-001.

Agreement Name: K Line/NYK Space Charter Agreement.

Parties: Kawasaki Kisen Kaisha, Ltd. and Nippon Yusen Kaisha.

Filing Party: Kristen Chung; NYK Group Americas Inc.

Synopsis: This amendment removes all authority to jointly negotiate or procure terminal services in the United States.

Proposed Effective Date: 7/2/2021.

Location: https://www2.fmc.gov/FMC.Agreements.Web/Public/AgreementHistory/1002.

Dated: July 8, 2021.
Rachel E. Dickon,
Secretary.

[FR Doc. 2021-14926 Filed 7-13-21; 8:45 am]

BILLING CODE 6730-02-P